DEPARTMENT OF AGRICULTURE

Food and Nutrition Service

Agency Information Collection Activities: Proposed Collection; Comment Request—Rapid Cycle Evaluation of Operational Improvements in Supplemental Nutrition Assistance Program (SNAP) Employment & Training (E&T) Programs

AGENCY: Food and Nutrition Service (FNS), USDA.

ACTION: Notice.

SUMMARY: In accordance with the Paperwork Reduction Act of 1995, this notice invites the general public and other public agencies to comment on the proposed information collection. This is a new collection for the contract Rapid Cycle Evaluation of Operational Improvements in Supplemental Nutrition Assistance Program (SNAP) Employment & Training Programs (SNAP E&T RCE). The purpose of SNAP E&T RCE is to test small-scale interventions in SNAP E&T operations or service delivery using rapid cycle evaluation (RCE).

DATES: Written comments must be received on or before June 13, 2022.

ADDRESSES: Comments may be sent to: Mehreen Ismail, Food and Nutrition Service, U.S. Department of Agriculture, 1320 Braddock Place, 5th Floor, Alexandria, VA 22314. Comments may also be submitted via email to Mehreen.Ismail@usda.gov. Comments will also be accepted through the Federal eRulemaking Portal. Go to https://www.regulations.gov, and follow the online instructions for submitting comments electronically. All responses to this notice will be summarized and included in the request for Office of Management and Budget approval. All comments will be a matter of public record.

FOR FURTHER INFORMATION CONTACT: Requests for additional information or copies of this information collection should be directed to Mehreen Ismail at 703-305-2960.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Rapid Cycle Evaluation of Operational Improvements in Supplemental Nutrition Assistance Program Employment & Training Programs (SNAP E&T RCE).

Form Number: N/A.

OMB Number: 0584-NEW.

Expiration Date: Not Yet Determined.

Type of Request: New Collection.

Abstract: In addition to providing nutrition assistance benefits to millions of low-income individuals experiencing economic hardship, the Supplemental Nutrition Assistance Program (SNAP) provides work supports through Employment and Training (E&T) programs that help SNAP participants gain skills and find work. State agencies are required to operate an E&T program and have considerable flexibility to determine the services they offer and populations they serve. The U.S. Department of Agriculture's Food and Nutrition Service (FNS) seeks to ensure the quality of the services and activities offered through SNAP E&T programs by investing resources and providing technical assistance to help States build capacity, create more robust services, and increase engagement in their programs.

The Rapid Cycle Evaluation of Operational Improvements in SNAP E&T Programs (SNAP E&T RCE) evaluation will use rapid cycle evaluation (RCE) to test small-scale interventions in SNAP E&T operations or service delivery to determine their effectiveness in improving program engagement and service take-up. RCE is an approach that involves cycles of identifying, testing, and refining small-scale, low-cost operational interventions to determine their effectiveness. SNAP E&T RCE has partnered with eight sites to identify the main challenges their SNAP E&T programs face: (1) Colorado Department of Human Services, (2) Connecticut: Community Colleges, (3) District of Columbia Department of Human Services, (4) Kansas Division of Children and Families, (5) Minnesota Department of Human Services, (6) Minnesota: Hennepin County Department of Human Services, (7) Massachusetts Department of Transitional Assistance, and (8) Rhode Island Department of Human Services. Objectives for this study include: (a) Describing how RCE can be used to improve SNAP E&T operations, service delivery and program outcomes; (b) designing and implementing RCEs to obtain impact estimates of small-scale interventions on SNAP E&T outcomes; (c) conducting an implementation evaluation; (d) assessing the scalability of small-scale interventions to SNAP E&T operations and services delivery to other SNAP E&T programs; and (e) determining and documenting the costs associated with implementing and maintaining small-scale interventions.

The SNAP E&T RCE team is using the Learn, Innovate, and Improve (LI²) framework to collaborate with sites, identify the challenges they want to address, and eventually design and test the interventions. The Learn phase focuses on assessing sites' needs and readiness to make changes, which informs development of solutions or strategies—the focus of the Innovate phase. The challenges the eight sites identified through the Learn phase generally involve recruitment and outreach or participant engagement and receipt of services. The SNAP E&T RCE team worked with each site to co-create an intervention addressing one of these challenges through the Innovate phase. Examples of interventions the sites plan to test include sending text messages and emails to participants to encourage enrollment in SNAP E&T or attendance at appointments or activities, using assessments of work readiness to improve participant referrals, or enhancing case management.

After identifying challenges in each site and designing interventions for addressing them, the SNAP E&T RCE team will work with each site to define operational plans for implementing the interventions and testing, refining, and retesting selected strategies in the Improve phase. Most interventions will be evaluated using randomized control trials in which individuals eligible for the intervention will be randomly assigned to a treatment group that receives the intervention or a control group that does not. The control group will be offered the existing approach to recruiting, outreach, and engagement, depending on the focus of intervention. Once interventions have been successfully piloted to ensure they operate smoothly for the site, the SNAP E&T RCE team will provide technical assistance to sites while they implement the intervention for a period of about three to four months.

The study will gather data from administrative records, State and local SNAP administrators, and SNAP participants to evaluate the interventions' effectiveness in improving recruitment and program engagement. Where appropriate, the study will create a system for enrollment into the evaluation and random assignment. Data collected in this system may include demographic and socioeconomic characteristics, contact information, and the collection of service use data. The study will conduct a 10-minute participant survey among a total of 4,000 participants in four of the eight sites. The participant survey will be used to collect information on barriers to engaging with services and seeking employment, program satisfaction, and reasons for engagement decisions for both individuals who engaged in the E&T program and those who either never engaged or disengaged.

The study will also collect data for the implementation evaluation across all eight sites using a combination of semi-structured interviews with administrators, focus groups with participants, and staff characteristics questionnaires with frontline intervention staff. In addition, the study will conduct in-depth interviews with participants in four of the eight sites. Data collected from administrators and staff will be used to describe how the interventions were implemented, assess the fidelity of the implementation and costs of the intervention, and identify implications for future application of similar types of changes. Additional data collected from participants will provide context to the administrative data and survey responses related to participant decisions, satisfaction, and barriers, as well as give a voice to participant backgrounds and experiences.

Affected Public: Members of the public affected by the data collection include Individuals and Households and State, Local, and Tribal Governments from eight sites. Respondent groups identified include: (1) Individuals eligible for SNAP E&T participation; (2) directors and managers from State and local government agencies supporting the SNAP E&T programs; and (3) staff from State and local government agencies providing direct services to SNAP E&T participants.

Estimated Number of Respondents: The estimated total number of respondents and nonrespondents is 91,910, including 73,566 respondents and 18,344 non-respondents. The sample includes 91,528 individuals, 135 State program staff, and 247 local program staff. As part of the site interventions, FNS will contact 91,528 SNAP participants across all eight sites, out of whom 18,306 will be non-respondents.

As part of data collection activities for the evaluation, FNS will contact approximately 4,000 SNAP participants to conduct the participant survey, 2,000 of whom will have also received the intervention offered to the treatment group and 2,000 in the control group who did not receive the intervention. We expect that 80 percent of the 4,000 individuals contacted will complete the participant survey (800 will be non-respondents). Among individuals participating in the site interventions, FNS will recontact a total of 800 individuals to participate in focus groups (160 will be focus group respondents and 640 will be considered non-respondents). Among individuals participating in the site interventions, 240 individuals will also be recontacted for in-depth-interviews (including 60 respondents and 180 non-respondents). FNS will also contact 382 SNAP program staff for administrative data requests, semi-structured interviews, and a staff characteristics survey; of the 382 contacted, 135 will be State staff and 247 will be local staff.

Estimated Number of Responses per Respondent: SNAP participants will be asked to participate in an intervention (which includes several possible notifications), as well as a possible in-depth interview, survey (which includes several possible notifications), and focus group for an average total of 3.40 responses across all instruments or activities. State and local program staff will respond to a semi-structured interview, administrate data request, or a brief questionnaire for a total of 1.63 responses each.

Estimated Total Annual Responses: 249,401.

Estimated Time per Response: The estimated time of response for respondents varies from 1 minute to 8 hours depending on the respondent group, with an average estimated time of 0.062 hours (3.72 minutes).

Estimated Total Annual Burden on Respondents: The total estimated burden on respondents and non-respondents is 17,254 hours (1,035,235 minutes). The total burden on respondents, excluding nonrespondents, is 15,458 hours (927,458 minutes).

Cynthia Long,
Administrator, Food and Nutrition Service.

[FR Doc. 2022-08011 Filed 4-13-22; 8:45 am]

BILLING CODE 3410-30-P